DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet July 23, 2:00 p.m. to 3:00 p.m. via teleconference.

The meeting is open to the public and will include discussions and evaluation of grant applications reviewed by SAMHSA's Initial Review Groups. To attend on-site, or request special accommodations for persons with disabilities, please register at SAMHSA Committee's Web site, http://nac.samhsa.gov/Registration/meetingsRegistration.aspx, or contact the Council's Designated Federal Officer (DFO), Ms. Deborah DeMasse-Snell (see contact information below). Substantive program information, a summary of the meeting, and a roster of Council members may be obtained as soon as possible after the meeting, by accessing the SAMHSA Committee Web site at http://beta.samhsa.gov/about-us/advisory-councils/cmhs-national-advisory-council, or by contacting the DFO.

Committee Name: SAMHSA's Center for Mental Health Services National Advisory Council.

Date/Time/Type: July 23, 2014, 2:00 p.m. to 3:00 p.m.

Place: SAMHSA Building, 1 Choke Cherry Road, Great Falls Room, Rockville, Maryland 20857.

Contact: Deborah DeMasse-Snell M.A. (Than), Designated Federal Official, SAMHSA CMHS National Advisory Council, 1 Choke Cherry Road, Room 6-1084, Rockville, Maryland 20857, Telephone: (240) 276-1861, Fax: (240) 276-1850, Email: Deborah.DeMasse-Snell@samhsa.hhs.gov.

Cathy J. Friedman,
Public Health Analyst, SAMHSA.

[FR Doc. 2014-13919 Filed 6-13-14; 8:45 am]

BILLING CODE 4162-20-P